SMALL BUSINESS ADMINISTRATION

[Disaster Declaration #13241 and #13242]

Oklahoma Disaster Number OK-00063

AGENCY: U.S. Small Business Administration.

ACTION: Amendment 2.

SUMMARY: This is an amendment of the Presidential declaration of a major disaster for the State of Oklahoma (FEMA-4078-DR), dated 08/22/2012.

Incident: Freedom and Noble Wildfires.

Incident Period: 08/03/2012 through 08/14/2012.

Effective Date: 09/27/2012.

Physical Loan Application Deadline Date: 10/22/2012.

EIDL Loan Application Deadline Date: 05/22/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Oklahoma, dated 08/22/2012 is hereby amended to include the following areas as adversely affected by the disaster:

Primary Counties: (Physical Damage and Economic Injury Loans): Cleveland.

Contiguous Counties: (Economic Injury Loans Only):

Oklahoma: Canadian, Mcclain, Oklahoma, Pottawatomie.

All other information in the original declaration remains unchanged.

(Catalog of Federal Domestic Assistance Numbers 59002 and 59008)

James E. Rivera,
Associate Administrator for Disaster Assistance.

[FR Doc. 2012-24724 Filed 10-5-12; 8:45 am]

BILLING CODE 8025-01-P